ENVIRONMENTAL PROTECTION AGENCY

[FRL-6931-2]

Underground Injection Control Program; Hazardous Waste Injection Restrictions; Petition for Exemption—Class I Hazardous Waste Injection; MERISOL USA LLC

AGENCY: Environmental Protection Agency.

ACTION: Notice of Final Decision on a No Migration Petition Reissuance.

SUMMARY: Notice is hereby given that an exemption to the land disposal restrictions under the 1984 Hazardous and Solid Waste Amendments to the Resource Conservation and Recovery Act has been granted to MERISOL USA LLC (Merisol) for a Class I injection well located at Houston, Texas. As required by 40 CFR part 148, the company has adequately demonstrated to the satisfaction of the Environmental Protection Agency by the petition and supporting documentation that, to a reasonable degree of certainty, there will be no migration of hazardous constituents from the injection zone for as long as the waste remains hazardous. This final decision allows the underground injection by Merisol, of the specific restricted hazardous wastes identified in the exemption, into a Class I hazardous waste injection well No. WDW-319 at the Houston, Texas facility, until December 31, 2010, unless EPA moves to terminate the exemption under provisions of 40 CFR 148.24. As required by 40 CFR 148.22(b) and 124.10, a public notice was issued October 30, 2000. The public comment period closed on December 7, 2000. No comments were received. This decision constitutes final Agency action and there is no Administrative appeal.

DATES: This action is effective as of December 27, 2000.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7165.

Joan Brown,
Acting Division Director, Water Quality Protection Division (6WQ).

[FR Doc. 01-572 Filed 1-8-01; 8:45 am]

BILLING CODE 6565-50-P